DEPARTMENT OF DEFENSE

Department of the Army

Availability for Non-Exclusive, Exclusive, or Partially Exclusive Licensing of U.S. Patent Application Concerning System and Method for the Deconvolution of Mixed DNA Profiles Using a Proportionately Shared Allele Approach

AGENCY: Department of the Army, DoD.

ACTION: Notice.

SUMMARY: Announcement is made of the availability for licensing of the invention set forth in U.S. Patent Application Serial No. 12/421,124, entitled “System and Method for the Deconvolution of Mixed DNA Profiles Using a Proportionately Shared Allele Approach.” The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The U.S. Army intends to move expeditiously to license this invention. Licensing application packages and other materials are available from the ORTA. All applications and commercialization plans must be returned to the ORTA, at (see ADDRESSES section), by November 30, 2009. Interest in an exclusive and/or non-exclusive license can be proposed in the same license application. Financial terms should also be included. Additional information and revisions to applications may be requested by the ORTA through December 11, 2009. The ORTA will evaluate applications, provide feedback as deemed appropriate, and negotiate licensing terms during the period of January through March 2010. Subsequently, draft license agreement(s) will be issued for review and signature. The Army, in its decisions concerning the granting of licenses, will give special consideration to small business firms. The Army intends to insure that its licensed inventions are broadly commercialized throughout the United States and the world. The Army intends that licensees will assume past and future patent prosecution costs.

(Authority: 35 U.S.C. 207, 37 CFR part 404).

Brenda S. Bowen,
Army Federal Register Liaison Officer.

[FR Doc. E9-25542 Filed 10-22-09; 8:45 am]

BILLING CODE 3710-08-P